ADVISORY COUNCIL ON HISTORIC PRESERVATION

Extension of Comment Period on Working Principles for Revising the Advisory Council on Historic Preservation's “Policy Statement Regarding Treatment of Human Remains and Grave Goods”

AGENCY: Advisory Council on Historic Preservation.

ACTION: Extension of comment period.

SUMMARY: The Advisory Council on Historic Preservation (ACHP) has extended until December 2, 2005 the public comment period on the Working Principles for revising the ACHP's “Policy Statement Regarding Treatment of Human Remains and Grave Goods.” Those Working Principles were published in the Federal Register on September 1, 2005. The extended comment period will afford greater opportunity to all interested parties to review and submit comments on the principles.

DATES: Comments must be received on or before December 2, 2005.

ADDRESSES: Address all comments concerning these working principles to the Archeology Task Force, Advisory Council on Historic Preservation, 1100 Pennsylvania Avenue, NW., Suite 809, Washington, DC 20004. Fax (202) 606-8672. Comments may also be submitted by electronic mail to: archeology@achp.gov. Please note that all responses become part of the public record once they are submitted to the ACHP.

FOR FURTHER INFORMATION CONTACT: Dr. Tom McColluch, Advisory Council on Historic Preservation, 1100 Pennsylvania Avenue, NW., Suite 809, Washington, DC 20004 (202) 606-8505.

SUPPLEMENTARY INFORMATION: The Advisory Council on Historic Preservation (ACHP) has extended until Friday, December 2, 2005, the public comment period on the Working Principles to guide any revisions to its “Policy Statement Regarding Treatment of Human Remains and Grave Goods” (1988 Human Remains Policy).

Information on the 1988 Human Remains Policy and the Working Principles was published in the Federal Register on September 1, 2005 (70 FR 52066-52068). That notice is available on the ACHP Web site at http://www.achp.gov/archeologytaskforce.html.

The ACHP's Archeology Task Force will use the comment it receives on the Working Principles to draft any proposed revisions to the 1988 Human Remains Policy. Such proposed revisions will then be subject to further public review and comment. Following this public review process, the Task Force may decide to present a revised policy statement to the full ACHP membership for adoption.

Dated: November 8, 2005.
John M. Fowler,
Executive Director.

[FR Doc. 05-22556 Filed 11-10-05; 8:45 am]

BILLING CODE 4310-K6-M